DEPARTMENT OF THE INTERIOR

Bureau of Land Management

[NV-930-1430-EU; N-76239, N-76847, and N-76858]

Notice of Realty Action (NORA) of the Segregation and Competitive Sale of Public Lands in White Pine County, NV

AGENCY: Bureau of Land Management, Interior.

ACTION: Notice of Realty Action (NORA) of the segregation and competitive sale of public lands in White Pine County, Nevada.

SUMMARY: The public lands listed below in White Pine County, Nevada have been examined and found suitable for disposal, at not less than fair market value. In accordance with Section 7 of the Act of June 28, 1934, as amended, 43 U.S.C. 315f and EO 6910, the described lands are hereby classified as suitable for disposal under the authority of Sections 203 and 209 of the Federal Land Policy and Management Act of October 21, 1976 (90 Stat. 2750; 43 U.S.C. 1713, and 1719). Upon publication of this notice in the Federal Register, the public lands listed below will be segregated from all other forms of appropriation under the public land laws, including the general mining laws, and leasing under the mineral leasing laws.

DATES: Interested parties may submit comments to the Assistant Field Manager, Nonrenewable Resources, on or before July 24, 2003.

ADDRESSES: Written comments should be addressed to: Bureau of Land Management, Jeffrey A. Weeks, Assistant Field Manager, Nonrenewable Resources, HC 33, Box 33500, Ely, NV 89301-9408.

FOR FURTHER INFORMATION CONTACT: Technical Information: Detailed information concerning the sale, including the reservations, sale procedures and conditions, planning and environmental documents, will be available at the Ely Field Office of the Bureau of Land Management, 702 North Industrial Way, Ely, Nevada 89301-9408 or by contacting Brenda Linnell, Realty Specialist, at the above address or by telephone (775) 289-1808.

Competitive Land Sale and Segregation: The following described parcels of land, situated in White Pine County are being offered as a competitive sale on August 19, 2003.

Mount Diablo Meridian, Nevada

Parcel 1, casefile N-76239 located at:

T. 14 N., R. 64 E.,

Section 32, NW¼, W½W½NE¼,

Containing 200.00 acres more or less.

Parcel 2, casefile N-76847 located at:

T. 17 N., R. 55 E.,

Section 6, W½SW¼SE¼NW¼, a portion of lot 5 generally described as the E½SE¼SW¼NW¼ (pending redesignation by supplemental plat as lot 13, Section 6),

Containing 10.00 acres more or less.

Parcel 3, casefile N-76858 located at:

T. 10 N., R. 62 E.,

Section 5, SW¼NE¼, SE¼NW¼,

Containing 80.00 acres more or less.

These lands are not required for any federal purposes. The sale is consistent with current Bureau planning for this area and would be in the public interest. The subject lands will be sold for at least fair market value (FMV) as determined by appraisal. In the event of a sale, conveyance of the available mineral interests will occur simultaneously with the sale of the land. The mineral interests being offered for conveyance have no known mineral value. Acceptance of a sale offer will constitute an application for conveyance of those mineral interests. The applicant will be required to pay a $50.00 non-refundable filing fee in conjunction with the final payment for processing of the conveyance of the locatable mineral interests.

Each parcel will be offered by sealed bid and at oral auction. All sealed bids must be received at the BLM Ely Field Office, HC 33 Box 33500, Ely, Nevada 89301-9408, or hand delivered at the BLM Ely Field Office, 702 North Industrial Way, Ely, Nevada no later than 4:15 PM, PDT, August 15, 2003. Sealed bid envelopes must be marked on the lower front left corner with the parcel number and sale date. Bids must be for not less than the appraised FMV and a separate bid must be submitted for each parcel. Each sealed bid shall be accompanied by a bid deposit of not less than 20 percent of the amount bid and full payment of the $50.00 non-refundable filing mineral fee in the form of cash, certified check, postal money order, bank draft, cashiers check, or personal check made payable to “USDI, Bureau of Land Management.

The highest qualified sealed bid for each parcel will become the starting bid for the oral bidding. If no bids are received, oral bidding will begin at the appraised FMV. All parcels will be offered by oral auction at 10 AM, PDT, August 19, 2003, at the BLM Ely Field Office, 702 North Industrial Way, Ely, Nevada. Lands will not be offered for sale until at least 60 days after the date of publication of this notice in the Federal Register.

The highest qualifying bid for each parcel, whether sealed or oral, will be declared the high bid. The high bidder, if an oral bidder, must submit the required bid deposit immediately following the close of the sale in the form of cash, personal check, bank draft, cashiers check, money order, or any combination thereof, made payable to the Bureau of Land Management, for not less than 20 percent of the amount bid. If not paid by close of the auction, funds must be delivered no later than 4:15 PM, PDT, the day of the sale to the BLM Ely Field Office. Should the highest bidder default, the next highest bidder will be declared the high bidder.

The remainder of the full bid price, whether sealed or oral, must be paid within 180 calendar days of the date of sale. Failure to pay the full price within the 180 days will disqualify the high bidder and cause the bid deposit to be forfeited to the BLM. If the highest qualified bid is rejected or the bidder released from it, the authorized officer will determine if the parcel shall be reoffered to the next highest bidder.

If the lands are not sold, they may remain available for sale on a continuing basis until sold. Sealed bids will be accepted on every Wednesday (by 4 pm PDT) of each month commencing the first week of September 2003 till the parcel is sold or by January 23, 2004, at no less than the fair market value. Sealed bid envelopes must be marked on the lower front left corner with the parcel number and clearly marked “SEALED BID: NV-430-1430-EU September 2003, for Parcel # as appropriate. Bid amounts must be stated in the bid and signed. All bids shall be accompanied by a bid deposit of 20 percent of the amount bid and full payment of the $50.00 non-refundable filing mineral fee in the form of cash, certified check, postal money order, bank draft, cashiers check, or personal check made payable to “USDI, Bureau of Land Management. The remainder of the full bid price must be paid within 180 calendar days of the date of sale. Failure to pay the full price within the 180 days will disqualify the apparent bidder and cause the bid deposit to be forfeited to the BLM.

Federal law requires that bidders must be U.S. citizens 18 years of age or older, a corporation subject to the laws of any State or of the United States; a State, State instrumentality, or political subdivision authorized to hold property; or an entity, including but not limited to associations or partnerships, capable of holding property or interests therein under the law of the State of Nevada. Certification of qualification, including citizenship or corporation or partnership, must accompany the bid deposit. In order to determine the fair market value of the subject public lands through appraisal, certain assumptions have been made on the attributes and limitations of the lands and potential effects of local regulations and policies on potential future land uses. Through publication of this notice, the Bureau of Land Management gives notice that these assumptions may not be endorsed or approved by units of local government. Furthermore, no warranty of any kind shall be given or implied by the United States as to the potential uses of the lands offered for sale; conveyance of the subject lands will not be on a contingency basis. It is the buyers' responsibility to be aware of all applicable local government policies and regulations that would affect the subject lands. It is also the buyers' responsibility to be aware of existing and potential uses for nearby properties. When conveyed out of federal ownership, the lands will be subject to any applicable reviews and approvals by the respective unit of local government for proposed future uses, and any such reviews and approvals would be the responsibility of the buyer. Any land lacking access from a public road or highway will be conveyed as such, and future access acquisition will be the responsibility of the buyer.

The patent, when issued, will contain the following reservation to the United States:

1. A right-of-way thereon for ditches and canals constructed by the authority of the United States, Act of August 30, 1890 (43 U.S.C. 945).

2. All oil and gas mineral deposits, and geothermal steam and associated geothermal resources in the land subject to this conveyance, including, without limitation, the disposition of these substances under the mineral leasing laws and Geothermal Steam Act, would be reserved to the United States. Its permittees, licensees and lessees, have the right to prospect for, mine and remove the mineral owned by the United States under applicable law and such regulations as the Secretary of the Interior may prescribe. This reservation includes necessary access and exit rights and the right to conduct all necessary and incidental activities including, without limitation, all drilling, underground, storage and transportation facilities deemed reasonably necessary.

3. All land parcels are subject to all valid and existing rights. Encumbrances of records are available for review during business hours, 7:30 a.m. to 4:30 p.m., Monday through Friday, at the Bureau of Land Management, Ely Field Office, 702 North Industrial Way, Ely, Nevada.

4. The parcels are subject to reservations for roads, public utilities and flood control purposes, both existing and proposed, in accordance with the local governing entities' Transportation Plans.

5. All purchasers/patentees, by accepting a patent, agree to indemnify, defend, and hold harmless the United States from any costs, damages, claims, causes of action, penalties, fines, liabilities, and judgments of any kind or nature arising from the past, present, and future acts or omissions of the patentee or their employees, agents, contractors, or leasees, or any third party, arising out of, or in connection with, the patentee's use, occupancy, or operations of the patented real property. The indemnification and hold harmless agreement includes, but is not limited to, acts and omissions of the patentee and their employees, agents, contractors, or leasees, or any third party, arising out of or in connection with the use and/or occupancy of the patented real property which has already resulted or does hereafter result in: (1) Violation of federal, state, and local laws and regulations that are now, or may in the future become, applicable to the real property; (2) Judgments, claims, or demands of any kind assessed against the United States; (3) Costs, expenses, or damages of any kind incurred by the United States; (4) or threatened releases of solid or hazardous waste(s) and/or hazardous substance(s), as defined by federal or state environmental laws; off, on, into or under land, property and other interests of the United States; (5) Other activities by which solids or hazardous substances or wastes, as defined by federal and state environmental laws are generated, released, stored, used or otherwise disposed of on the patented real property, and any cleanup response, remedial action, or other actions related in any manner to said solid or hazardous substances or wastes; or (6) Natural resources damages as defined by federal and state laws. This covenant shall be construed as running with the patented real property and may be enforced by the United States in a court of competent jurisdiction.

Upon publication of this notice in the Federal Register, the above described land will be segregated from all other forms of appropriation under the public land laws, including the general mining laws, and leasing under the mineral leasing laws. This segregation will terminate upon issuance of a patent or 270 days from the date of this publication, whichever occurs first. For a period of 45 days from the date of publication of this notice in the Federal Register, interested parties may submit comments regarding this action to the Assistant Field Manager, Nonrenewable Resources at the address listed above. Any adverse comments will be reviewed by the State Director who may sustain, vacate, or modify this realty action. In absence of any adverse comments, this realty action will become the final determination of the Department of the Interior. The Bureau of Land Management may accept or reject any or all offers, or withdraw any land or interest in the land from sale, if, in the opinion of the authorized officer, consummation of the sale would not be fully consistent with FLPMA, or other applicable laws. Any comments received during the process, as well as the commentor's name and address, will be available to the public in the administrative record and/or pursuant to the Freedom of Information Act request. You may indicate for the record that you do not wish your name and/or address made available to the public. Any determination by the Bureau of Land Management to release or withhold the names and/or addresses of those who comment will be made on a case-by-case basis. A commentor's request to have their name and/or address withheld from the public release will be honored to the extent permissible by law.

Dated: April 23, 2003.
Jeffrey A. Weeks,
Assistant Field Manager, Nonrenewable Resources.

[FR Doc. 03-14449 Filed 6-6-03; 8:45 am]

BILLING CODE 4310-HC-P